COMMISSION ON CIVIL RIGHTS

Sunshine Act Notice

AGENCY: U.S. Commission on Civil Rights.

DATE AND TIME: Friday, June 16, 2006. 9:30 a.m., Commission Briefing and Meeting.

PLACE: U.S. Commission on Civil Rights, 624 Ninth Street, NW., Room 540, Washington, DC 20425.

STATUS:

Briefing Agency

Commission Briefing: Affirmative Act and Law Schools

• Introductory Remarks by Chairman.

• Speaker's Presentations.

• Questions by Commissioners and Staff Director.

Agenda

I. Approval of Agenda

II. Approval of Minutes of May 4, and May 5, 2006 Meetings

III. Announcements

IV. Staff Director's Report

V. Program Planning

• FY 2008 Statutory Report on Religious Discrimination and Prisoner Rights.

• Schedule for Briefing on Racially Identifiable School Districts in Omaha, NE.

• Report from the Briefing on Campus Anti-Semitism.

VI. Management and Operations

• Web site: Posting Addendum to Transcript of November 2005 Briefing on Campus Anti-Semitism.

• Proposed Information Quality Guidelines.

• Working Group on Briefing Reports.

• Strategic Planning.

VII. State Advisory Committee Issues

• Religious Discrimination and Prisoner Rights.

• Recharter Package for the North Carolina State Advisory Committee.

VIII. Future Agenda Items

CONTACT PERSON FOR FURTHER INFORMATION: Audrey Wright, Office of the Staff Director (202) 376-7700.

Kenneth L. Marcus,
Staff Director, Acting General Counsel.

[FR Doc. 06-5276 Filed 6-6-06; 3:39 pm]

BILLING CODE 6335-01-M